NUCLEAR REGULATORY COMMISSION

[Docket No[s] 52-022 and 52-023]

Progress Energy Carolinas, Inc.; Notice of Hearing and Opportunity To Petition for Leave To Intervene and Order Imposing Procedures for Access to Sensitive Unclassified Non-Safeguards Information and Safeguards Information for Contention Preparation on a Combined License for the Shearon Harris Units 2 and 3; Correction

AGENCY: Nuclear Regulatory Commission.

ACTION: Correction.

SUMMARY: This document corrects a notice appearing in the Federal Register on June 4, 2008 (73 FR 31899), that gives notice that a hearing will be held that will consider the application dated February 18, 2008, filed by Progress Energy Carolinas, Inc., pursuant to Subpart C of 10 CFR Part 52, for a combined license. This action is necessary to correct an erroneous e-mail address.

FOR FURTHER INFORMATION CONTACT: Serita Sanders, Office of New Reactors, Nuclear Regulatory Commission, Telephone 301-415-2956, e-mail Serita.Sanders@nrc.gov.

SUPPLEMENTARY INFORMATION: On page 31900, center column, the first complete paragraph, the e-mail address JohnOneill@PillsburyLaw.com is corrected to read john.o'neill@pillsburylaw.com.

Dated at Rockville, Maryland, this 5th day of June 2008.
For the Nuclear Regulatory Commission.
Annette L. Vietti-Cook,
Secretary of the Commission.

[FR Doc. E8-13059 Filed 6-10-08; 8:45 am]

BILLING CODE 7590-01-P